DEPARTMENT OF STATE

[Public Notice 5741]

Announcement of Meetings of the International Telecommunication Advisory Committee

SUMMARY: This notice announces meetings of the International Telecommunication Advisory Committee (ITAC) to prepare advice on U.S. positions for two sets of meetings: the meeting of the Organization for Economic Co-operation and Development Working Parties on the Information Economy (WPIE) and on Communications and Infrastructure Services Policy (CISP), and a meeting of the International Telecommunication Union's Study Group 9 (Integrated broadband cable networks and television and sound transmission).

The ITAC will meet on May 3, 10, and 17 from 2-4 p.m. EDT in room 2533a of the Harry S Truman building (Main State), 2201 C Street, Washington, DC to prepare advice for the next meetings of the WPIE and CISP.

The ITAC will meet by conference call at 2 p.m. EDT to prepare advice on proposed USA contributions to ITU-T Study Group 9. Call-in information is available from the secretariat at 202 647-3234.

These meetings are open to the public. Admission to the Department of State, 2201 C Street, Washington, DC requires prior notification to the secretariat (including birth date and an identification number such as driver license or passport) and presentation of a government-issued picture identification card at the entrance. Further information may be obtained from the Secretariat at minardje@state.gov, telephone 202 647-3234.

Dated: March 26, 2007.
Doreen McGirr,
Director of Telecommunication Development, EEB/CIP/Multilateral Affairs, Department of State.

[FR Doc. E7-6293 Filed 4-4-07; 8:45 am]

BILLING CODE 4710-07-P